DEPARTMENT OF ENERGY

Federal Energy Regulatory Commission

[Project No. 13511-002]

Igiugig Village Council; Notice Concluding Pre-Filing Process and Approving Process Plan and Schedule

a. Type of Filing: Notice of Intent to File an Application for a Hydrokinetic Pilot Project.

b. Project No.: 13511-002.

c. Date Filed: April 1, 2015.

d. Submitted By: Igiugig Village Council (Igiugig).

e. Name of Project: Igiugig Hydrokinetic Project.

f. Location: On the Kvichak River in the Lake and Peninsula Borough, near the town of Igiugig, Alaska. The project would not occupy any federal lands.

g. Filed Pursuant to: 18 CFR 5.3 and 5.5 of the Commission's regulations.

h. Applicant Contact: AlexAnna Salmon, President, Igiugig Village Council, P.O. Box 4008, Igiugig, Alaska 99613; (907) 533-3211.

i. FERC Contact: Dianne Rodman (202) 502-6077.

j. Igiugig has filed with the Commission: (1) A notice of intent to file an application for a pilot hydrokinetic hydropower project and a draft license application with monitoring plans; (2) a request for waivers of certain Integrated Licensing Process regulations necessary for expedited processing of a license application for a hydrokinetic pilot project; (3) a proposed process plan and schedule; and (4) a request to be designated as the non-federal representative for section 7 of the Endangered Species Act (ESA) consultation and for section 106 consultation under the National Historic Preservation Act.

k. A notice was issued on April 23, 2015, soliciting comments on the draft license application from agencies and stakeholders. Comments were filed by non-governmental organizations and individuals.

l. On April 23, 2015, Igiugig was designated as the non-federal representative for section 7 consultation under the ESA and for section 106 consultation under the National Historic Preservation Act.

m. The proposed Igiugig Hydrokinetic Project would consist of: (1) An in-stream 20- kilowatt (kW), 64-foot-long, 11-foot-high, 43-foot-wide pontoon-mounted RivGen Power System Turbine Generator Unit (TGU) in Phase 1; (2) an additional in-stream 20-kW pontoon-mounted TGU in Phase 2; (3) two anchoring systems consisting of a 13,000-pound anchor, chain, shackles, and 150 feet of mooring; (4) a 375-foot-long, coated and weighted combined power, data, and environmental monitoring cable from the TGU for Phase 1; and a 675-foot-long cable from the TGU for Phase 2; (5) an existing 10-foot-long by 8-foot-wide shore station for housing project electronics and Issue biological assessment February 15, 2015.

n. controls; and (6) appurtenant facilities. The project is estimated to have an annual generation of 409,504 kilowatt-hours.

o. The pre-filing process has been concluded and the requisite regulations have been waived such that the process and schedule indicated below can be implemented.

p. The post-filing process will be conducted pursuant to the following schedule. Revisions to the schedule may be made as needed.

Milestones | Dates
Final license application expected | November 2, 2015.
Issue notice of acceptance and ready for environmental analysis and request for interventions | November 17, 2015.
Recommendations, Conditions, Comments and Interventions due | December 17, 2015.
Issue notice of availability of environmental assessment | February 15, 2016.
Issue biological assessment | February 15, 2016.
Comments due and 10(j) resolution, if needed | March 16, 2016.

q. Register online at http://ferc.gov/esubscribenow.htm to be notified via email of new filing and issuances related to this or other pending projects. For assistance, contact FERC Online Support.

Dated: August 17, 2015.
Kimberly D. Bose,
Secretary.

[FR Doc. 2015-20745 Filed 8-20-15; 8:45 am]

BILLING CODE 6717-01-P